DEPARTMENT OF LABOR

Employment and Training Administration

[TA-W-53,537]

Pacific Rim Log Scaling Bureau, Lacey, WA; Notice of Negative Determination on Reconsideration

On February 13, 2004, the Department issued an Affirmative Determination Regarding Application for Reconsideration for the workers and former workers of the subject firm. The Department published the notice in the Federal Register on February 25, 2004 (69 FR 8701).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The TAA petition was filed on behalf of workers at Pacific Rim Log Scaling Bureau, Lacey, Washington. The petition was denied because the petitioning workers did not produce an article within the meaning of section 222 of the Act and are not service workers whose separations were caused importantly by a reduced demand for their services from a parent firm, a firm otherwise related to their firm by ownership or a firm related by control.

In the request for reconsideration, the petitioner does not refute the service designation but alleges that the subject firm is a “collective” consisting of timber companies, the workers “actually work for timber companies that own the [b]ureau” and the worker separations were caused by a reduced demand for services by “collective” members. The petitioner infers that the timber companies function as the subject firm's parent company and the subject firm should be certified because several of those companies are TAA certified.

The Department conducted an investigation to determine whether the worker separations were caused importantly by a reduced demand for their services from a parent firm, a firm otherwise related by ownership or a firm related by control.

The investigation revealed that the subject firm is a corporation without a parent company or any affiliates. A board of directors, consisting of 33 members, is elected by shareholders to manage the corporation. Although most of the subject firm's customers are shareholders, no individual timber company can have more than one person on the board of directors at any time. Furthermore, the main purpose of creating the subject firm was to promote fair competition among the timber companies. Thus, there is no firm controlling the subject firm.

Conclusion

After review of the application and investigative findings, I conclude that there has been no error or misinterpretation of the law or of the facts which would justify reconsideration of the Department of Labor's prior decision. Accordingly, the application is denied.

Signed in Washington, DC, this 8th day of March, 2004.
Elliott S. Kushner,
Certifying Officer, Division of Trade Adjustment Assistance.

[FR Doc. 04-6545 Filed 3-23-04; 8:45 am]

BILLING CODE 4510-30-P